FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011528-023.

Title: Japan/United States Eastbound Freight Conference.

Parties:

American President Lines, Ltd;

Hapag-Lloyd Container Line GmbH;

Kawasaki Kisen Kaisha, Ltd.;

Mitsui O.S.K. Lines, Ltd.;

A.P. Moller Maersk Sealand;

Nippon Yusen Kaisha;

Orient Overseas Container Line Limited;

P&O Nedlloyd B.V.;

P&O Nedlloyd Limited;

and Wallenius Wilhelmsen Lines AS.

Synopsis: The amendment extends the suspension of the conference through January 31, 2004.

Agreement No.: 011859.

Title: TMM/Hanjin Slot Charter Agreement.

Parties:

TMM Lines, Ltd.;

Hanjin Shipping Co., Ltd.

Synopsis: The proposed agreement would authorize TMM to charter space to Hanjin in the trades between the U.S. West Coast, on the one hand, and Mexico and Asia, on the other.

Agreement No.: 201124-001.

Title: Oakland/Yang Ming Terminal Use Agreement.

Parties:

City of Oakland,

Yang Ming Transport Corporation.

Synopsis: The amendment terminates the parties' terminal use agreement.

By Order of the Federal Maritime Commission.

Dated: August 8, 2003.
Karen V. Gregory,
Acting Assistant Secretary.

[FR Doc. 03-20656 Filed 8-12-03; 8:45 am]

BILLING CODE 6730-01-P